DEPARTMENT OF JUSTICE

Antitrust Division

Proposed Modification of Final Judgment

Notice is hereby given that Defendants, SBC Communications Inc. (“SBC”) and BellSouth Corporation (“BellSouth”), and Plaintiff, United States, have filed a joint motion to modify the Final Judgment in United States v. SBC Communications Inc. and BellSouth Corporation, Civil No. 1:00CV02073, with the United States District Court for the District of Columbia, and that the Department of Justice, in a stipulation also filed with the Court, has tentatively consented to modification of the Final Judgment if certain conditions are met, and has reserved the right to withdraw its consent pending receipt of public comments.

On August 30, 2000, the United States filed a complaint in this case alleging that the proposed joint venture between SBC and BellSouth, to form Cingular Wireless LLC (“Cingular”), would substantially lessen competition in wireless mobile telephone service in certain areas in California, Indiana, and Louisiana. On December 29, 2000, a Final Judgment was entered with the consent of the Defendants which required them to make certain divestitures of licenses and assets in relevant markets for mobile wireless telecommunications services in California, Indiana, and Louisiana. The Final Judgment bars the defendants from reacquiring any of the divested spectrum licenses for the term of the decree, which expires December 29, 2010. On February 17, 2004, Cingular announced an agreement to acquire AT&T Wireless Services Inc. (“AT&T Wireless”, which purchased the divested licenses in California and Indiana. Due to changes in competitive conditions in the affected geographic areas, the United States believes that the Final Judgment's prohibition on reacquiring these spectrum licenses is no longer necessary to preserve competition in these affected areas. The modification would allow the defendants to reacquire the divested spectrum licenses in the Los Angeles MSA and in the Indianapolis MTA. Reacquisition of the divested spectrum licenses in 5 BTAs within the Indianapolis MTA is conditioned upon Cingular not acquiring control of or an interest in certain other spectrum licenses in those BTAs as part of its acquisition of AT&T Wireless.

The Department has filed with the Court a memorandum setting forth the reasons why the United States believes that modification of the Final Judgment would serve the public interest. Copies of the joint motion papers, the stipulation containing the United States's tentative consent, the United States's memorandum, and all further papers filed with the Court in connection with this motion will be available for inspection at the Antitrust Documents Group, Antitrust Division, Liberty Place Building, Room 215, 325 7th Street, NW., Washington, DC 20530 (202-514-2481), and at the Office of the Clerk of the United States District Court for the District of Columbia. Copies of these materials may be obtained from the Antitrust Division upon request and payment of the copying fee set by Department of Justice regulations.

Interested persons may submit comments regarding the proposed modification of the Final Judgment to the United States. Such comments must be received by the Antitrust Division within thirty (30) days and will be filed with the Court by the United States. Comments should be addressed to Nancy Goodman, Chief, Telecommunications & Media Enforcement Section, Antitrust Division, U.S. Department of Justice, City Center Building, 1401 H Street, NW., Suite 8000, Washington, DC 20530 (202-514-5621).

J. Robert Kramer II,
Director of Operations, Antitrust Division.

[FR Doc. 04-18855 Filed 8-17-04; 8:45 am]

BILLING CODE 4410-11-M